DEPARTMENT OF TRANSPORTATION

Federal Railroad Administration

[Docket Number FRA-2008-0166]

Petition for Waiver of Compliance

Under part 211 of title 49 Code of Federal Regulations (CFR), this document provides the public notice that on February 25, 2021, Union Pacific Railroad Company (UPRR) petitioned the Federal Railroad Administration (FRA) for an extension of a waiver of compliance from certain provisions of the Federal railroad safety regulations contained at 49 CFR part 218, Railroad Operating Practices. FRA assigned the petition Docket Number FRA-2008-0166.

Specifically, UPRR seeks continued relief from blue signal requirements as prescribed in 49 CFR 218.25, Workers on a main track, on five specific track locations in Kansas City, Kansas, and Kansas City, Missouri. The subject tracks are in the middle of the Kansas City facilities and are used for functions normally performed on yard tracks, including fueling, locomotive inspections, and adding or removing power from trains. This request is for the following track locations:

• Main 1 and Main 2, between Manchester and Troost (MP MX279-MX281);

• Main 1 and Main 2 at 18th St., between MP KX004 and KX006; and

• Main line at 10th St., between MP KX287 and KX289.

UP requests flexibility to treat these main tracks at the Kansas City facilities as other-than-main-tracks, so it can have the option of protecting its employees working on, under, or between rolling equipment in accordance with 49 CFR 218.25, Workers on a main track, or 49 CFR 218.27, Workers on track other than main track, or a combination of both regulations.

UP states that the safest and most efficient method of protecting its employees in the Kansas City facilities is by a combination of blue signal protection and remotely-controlled switches. UP explains that it has operated under the requirements of this waiver since 2009 without any adverse effects on safety of operations.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by May 20, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2021-06950 Filed 4-2-21; 8:45 am]

BILLING CODE 4910-06-P